DEPARTMENT OF COMMERCE

National Oceanic and Atmospheric Administration

RIN 0648-XC215

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) Staff will hold the second meeting of the Visioning and Strategic Planning Working Group. During this meeting, the group will finalize draft vision and mission statements, perform an abridged analysis of the Council's strengths, weaknesses, opportunities, and threats, and develop a goal structure for the strategic plan.

DATES: The meeting will be held on Friday, September 21, 2012, from 9 a.m. to 5 p.m.

ADDRESSES: The meeting will be held at O'Callaghan Hotel, 174 West Street, Annapolis, MD 21401; telephone: (866) 782-9624.

Council address: Mid-Atlantic Fishery Management Council, 800 N. State Street, Suite 201, Dover, DE 19901; telephone: (302) 674-2331.

FOR FURTHER INFORMATION CONTACT: Dr. Christopher M. Moore, Executive Director, Mid-Atlantic Fishery Management Council, 800 N. State Street, Suite 201, Dover, DE 19901; telephone: (302) 526-5255.

SUPPLEMENTARY INFORMATION: This meeting of the Visioning and Strategic Planning Working Group is the second in a series of strategic planning meetings convened by MAFMC with facilitation services provided by RESOLVE. The purpose of the Working Group meetings is to develop a draft 10-year strategic plan and corresponding tactical plan through discussion of issues, opportunities, and objectives as they relate to the MAFMC's management responsibilities. In this meeting, the Working Group will finalize the Vision and Mission statements drafted at the first meeting held on August 13. The group will perform an abridged analysis of strengths, weaknesses, opportunities, and threats, and will develop a goal structure for the strategic plan. Time permitting, the Working Group may develop the goal, objective, strategy and tactical associations that support the development of a strategic goal on public engagement.

No formal actions will be taken by the Visioning and Strategic Planning Working Group at this meeting. Any documents produced by the Working Group will be reviewed by the full-Council following a period of public comment.

Special Accommodations

The meeting is physically accessible to people with disabilities. Requests for sign language interpretation or other auxiliary aids should be directed to M. Jan Saunders at the Mid-Atlantic Council Office, (302) 526-5251, at least 5 days prior to the meeting date.

Dated: August 30, 2012.
Tracey L. Thompson,
Acting Deputy Director, Office of Sustainable Fisheries, National Marine Fisheries Service.

[FR Doc. 2012-21764 Filed 9-4-12; 8:45 am]

BILLING CODE 3510-22-P